DEPARTMENT OF DEFENSE

Department of the Navy

Notice of Availability of Government-Owned Inventions; Available for Licensing

AGENCY: Department of the Navy, DoD.

ACTION: Notice.

SUMMARY: The inventions listed below are those in which the United States Government as represented by the Secretary of the Navy has an ownership interest and are made available for licensing by the Department of the Navy. U.S. Patent Application Ser. No. 12/383,086 entitled “System and method for controlling the power output of an internal combustion engine” filed on April 13, 2009; U.S. Patent Application Ser. No. 12/383,082 entitled “Submarine mast antenna controller” filed on March 13, 2009; U.S. Patent Application Ser. No. 12/454,483 entitled “Head window potting fixture method” filed on April 30, 2009; U.S. Patent Application Ser. No. 12/383,080 entitled “Multi-element patch antenna and method” filed on March 13, 2009; U.S. Patent Application Ser. No. 12/313,789 entitled “A low-cost energy-efficient amplitude phase-frequency modulator for low power wired and wireless command, control and communication” filed on November 24, 2008; U.S. Patent Application Ser. No. 12/322,959 entitled “An energy efficient method for changing the voltage of a DC source to another voltage in order to supply a load that requires a different voltage” filed on January 26, 2009; U.S. Patent Application Ser. No. 12/714,629 entitled “Uniformly distributed lead zirconate titanate strain sensor” filed on March 1, 2010; U.S. Patent Application Ser. No. 12/462,938 entitled “Three-dimensional tactical display and method for visualizing data with a probability of uncertainty” filed on August 3, 2009; U.S. Patent Application Ser. No. 12/131,472 entitled “Remote blood pressure sensing method and apparatus” filed on June 2, 2008; U.S. Provisional Patent Application Ser. No. 61/255,258 entitled “Non-contact system and method for monitoring a physiological condition” filed on October 27, 2009; U.S. Patent Application Ser. No. 12/460,178 entitled “Disposable chemical sensor for building collapse investigation” filed on July 10, 2009; U.S. Patent Application Ser. No. 12/701,909 entitled “Laser-based method for docking an unmanned underwater vehicle to a submarine” filed on February 8, 2010; U.S. Patent Application Ser. No. 12/566,841 entitled “Thermal wick cooling for vibroacoustic transducers” filed on September 25, 2009; U.S. Patent Application Ser. No. 12/560,528 entitled “Acoustic shotgun system” filed on September 16, 2009; U.S. Patent Application Ser. No. 12/383,433 entitled “Underwater acoustic tracer system” filed on April 13, 2009; U.S. Patent Application Ser. No. 12/386,185 entitled “Deployment system for fiber optic line sensors” filed on March 27, 2009; U.S. Patent Application Ser. No. 12/386,182 entitled “Method and system for interface detection” filed on March 27, 2009; U.S. Patent Application Ser. No. 12/701,007 entitled “Cable fairing attachment” filed on February 5, 2010; U.S. Patent Application Ser. No. 12/383,088 entitled “Shape-control actuated nose shell for multiple speed undersea vehicles” filed on April 13, 2009; U.S. Patent Application Ser. No. 12/683,687 entitled “Acoustically focused optical lens” filed on January 5, 2010; U.S. Patent Application Ser. No. 12/566,852 entitled “Method for displaying intersections and expansions of three dimensional volumes” filed on September 25, 2009; U.S. Patent Application Ser. No. 12/700,987 entitled “Particle characterization via the doppler distribution” filed on February 5, 2010; U.S. Patent Application Ser. No. 12/587,331 entitled “Rigid inflatable bridge” filed on May 17, 2006; U.S. Patent Application Ser. No. 12/454,494 entitled “Towed array deployment system for unmanned surface vehicle” filed on April 30, 2009; U.S. Patent Application Ser. No. 12/562,542 entitled “Biologically-inspired control of stator wakes for blade rate signature reduction” filed on September 18, 2009; U.S. Patent Application Ser. No. 12/560,523 entitled “Water entry system” filed on September 16, 2009; U.S. Patent Application Ser. No. 12/587,327 entitled “Subsurface deployable antenna array” filed on September 25, 2009; U.S. Patent Application Ser. No. 12/646,281 entitled “Supercavitating launch system and method” filed on December 23, 2009; U.S. Patent Application Ser. No. 12/646,318 entitled “Supercavitating projectile tracking system and method” filed on December 23, 2009; U.S. Patent Application Ser. No. 12/699,176 entitled “A towed acoustic source” filed on February 3, 2010; U.S. Patent Application Ser. No. 12/462,061 entitled “Cooling acoustic transducers with heat pipes” filed on July 30, 2009; U.S. Patent Application Ser. No. 12/699,185 entitled “Tow body position measurement method and system” filed on February 3, 2010; U.S. Patent Application Ser. No. 12/383,085 entitled “Low cost inertial measurement unit isolation mount” filed on April 13, 2009; U.S. Patent Application Ser. No. 12/460,907 entitled “Membrane pump for synthetic muscle actuation” filed on September 28, 2009; U.S. Patent Application Ser. No. 12/383,081 entitled “Telescoping cavitator” filed on April 13, 2009; U.S. Patent Application Ser. No. 12/587,330 entitled “Deployable and inflatable hybrid fendering apparatus” filed on September 25, 2009; U.S. Patent Application Ser. No. 12/460,908 entitled “Electronic equipment rack” filed on September 28, 2009; U.S. Patent Application Ser. No. 12/383,084 entitled “Secondary interference mitigation for fiber optic array” filed on March 4, 2009; U.S. Patent Application Ser. No. 12/291,048 entitled “Acceleration strain transducer with increased sensitivity” filed on September 22, 2009; U.S. Patent Application Ser. No. 12/702,529 entitled “Low noise compensator for fiber-optic interferometric sensor systems” filed on February 9, 2010; U.S. Patent Application Ser. No. 12/683,503 entitled “A method and apparatus for underwater environmental energy transfer with a long lead zirconate titanate transducer” filed on January 5, 2010; U.S. Patent Application Ser. No. 12/462,106 entitled “Bentitled “ow riding unmanned water-borne vehicle” filed on July 30, 2009; U.S. Patent Application Ser. No. 12/560,786 entitled “Fuel reformer integration with carbon dioxide scrubbers” filed on September 16, 2009; U.S. Patent Application Ser. No. 12/587,332 entitled “An autonomous hydrophone position locating and target tracking system” filed on September 30, 2009; U.S. Patent Application Ser. No. 12/587,323 entitled “Power conditioner for microbial fuel cells” filed on September 30, 2009; U.S. Patent Application Ser. No. 12/730,398 entitled “Outboard optical cable sensor system and method” filed on March 24, 2010; U.S. Patent Application Ser. No. 12/651,559 entitled “A method to generate propulsor side forces” filed on January 4, 2010; U.S. Patent Application Ser. No. 12/291,053 entitled “Fiber optic accelerometer mandrel with shear prevention” filed on July 2, 2009; U.S. Patent Application Ser. No. 12/536,157 entitled “Class-specific iterated subspace classifier” filed on August 5, 2009; U.S. Patent Application Ser. No. 12/322,960 entitled “A multi-resolution hidden markov model using class-specific features” filed on January 29, 2009; U.S. Patent Application Ser. No. 12/380,863 entitled “Crimp imbalanced protective fabric” filed on March 4, 2009; U.S. Patent Application Ser. No. 12/728,451 entitled “Tsunami detection system” filed on March 22, 2010; U.S. Patent Application Ser. No. 12/587,328 entitled “Parallel plate antenna” filed on September 30, 2009; U.S. Patent Application Ser. No. 12/587,329 entitled “Compact and stand-alone combined multi-axial and shear test apparatus” filed on September 25, 2009; U.S. Patent Application Ser. No. 12/693,708 entitled “Battery electrolyte-level detector apparatus” filed on January 26, 2010; U.S. Patent Application Ser. No. 12/460,909 entitled “A method for mitigating spatial aliasing” filed on October 15, 2009; U.S. Patent Application Ser. No. 12/386,183 entitled “A method for determining a concentration of hydrogen peroxide” filed on April 10, 2009; U.S. Patent Application Ser. No. 12/386,184 entitled “A method of making a bipolar electrode” filed on April 10, 2009; U.S. Patent Application Ser. No. 12/462,659 entitled “Material with improved adhesion surface” filed on August 6, 2009.

FOR FURTHER INFORMATION CONTACT: Dr. Theresa A. Baus, Head, Technology Partnership Enterprise Office, Naval Undersea Warfare Center Division, Newport, 1176 Howell St., Newport, RI 02841-1703, telephone 401-832-8728, e-mail Theresa.baus@navy.mil.

(Authority: 35 U.S.C. 207, 37 CFR Part 404.)

Dated: March 25, 2010.
A.M. Vallandingham,
Lieutenant Commander, Judge Advocate Generals Corps, U.S. Navy, Federal Register Liaison Officer.

[FR Doc. 2010-7453 Filed 4-5-10; 8:45 am]

BILLING CODE 3810-FF-P